DEPARTMENT OF ENERGY

President's Council of Advisors on Science and Technology (PCAST)

AGENCY: Office of Science, Department of Energy.

ACTION: Notice of closed meeting.

SUMMARY: This notice announces a closed meeting of the President's Council of Advisors on Science and Technology (PCAST). The Federal Advisory Committee Act (FACA) requires that public notice of these meetings be announced in the Federal Register.

DATES: Thursday, September 26, 2023; 1:30 p.m. PT.

ADDRESSES: San Francisco, CA

FOR FURTHER INFORMATION CONTACT: Dr. Reba Bandyopadhyay, Designated Federal Officer, PCAST, email: PCAST@ostp.eop.gov; telephone: (202) 881-7163.

SUPPLEMENTARY INFORMATION: PCAST is an advisory group of the nation's leading scientists and engineers, appointed by the President to augment the science and technology advice available to him from the White House, cabinet departments, and other Federal agencies. See the Executive Order at www.whitehouse.gov. PCAST is consulted on and provides analyses and recommendations concerning a wide range of issues where understanding of science, technology, and innovation may bear on the policy choices before the President. The Designated Federal Officer is Dr. Reba Bandyopadhyay. Information about PCAST can be found at: www.whitehouse.gov/PCAST.

Tentative Agenda

Closed portion of the meeting: PCAST may hold a closed meeting of approximately one hour with the President on September 26, 2023, which must take place at the scheduling convenience of the President and to maintain Secret Service protection. This meeting will be closed to the public because the meeting is likely to disclose matters that are to be kept secret in the interest of national defense or foreign policy under 5 U.S.C. 552b(c)(1).

This notice is being published less than 15 days prior to the meeting due to scheduling difficulties.

PCAST operates under the provisions of FACA, all public comments and/or presentations will be treated as public documents and will be made available for public inspection, including being posted on the PCAST website at: www.whitehouse.gov/PCAST/meetings.

Minutes: Minutes will be available within 45 days at: www.whitehouse.gov/PCAST/meetings.

Signed in Washington, DC, on September 15, 2023.
LaTanya Butler,
Deputy Committee Management Officer.

[FR Doc. 2023-20383 Filed 9-19-23; 8:45 am]

BILLING CODE 6450-01-P